DEPARTMENT OF COMMERCE

National Oceanic and Atmospheric Administration

[I.D. 041905A]

Marine Mammals; File Nos. 1036-1744, 594-1759, and 633-1763

AGENCY: National Marine Fisheries Service (NMFS), National Oceanic and Atmospheric Administration (NOAA), Commerce.

ACTION: Issuance of permits.

SUMMARY: Notice is hereby given that the following individuals and institutions have been issued permits to conduct research on northern right whales (Eubalaena glacialis) and other marine mammals in the North Atlantic: Robert DiGiovanni, Riverhead Foundation for Marine Research and Preservation, 467 East Main Street, Riverhead, New York 11901 (File No. 1036-1744); the Georgia Department of Natural Resources, Wildlife Resources Division, Nongame-Endangered Wildlife Program, Coastal Office, Brunswick, GA (File No. 594-1759); and the Center for Coastal Studies, Provincetown, MA (File No. 633-1763).

ADDRESSES: The permit and related documents are available for review upon written request or by appointment in the following office(s):

Permits, Conservation and Education Division, Office of Protected Resources, NMFS, 1315 East-West Highway, Room 13705, Silver Spring, MD 20910; phone (301)713-2289; fax (301)427-2521;

Northeast Region, NMFS, One Blackburn Drive, Gloucester, MA 01930-2298; phone (978)281-9200; fax (978)281-9371; and

Southeast Region, NMFS, 9721 Executive Center Drive North, St. Petersburg, FL 33702-2432; phone (727)570-5301; fax (727)570-5320.

FOR FURTHER INFORMATION CONTACT: Carrie Hubard or Dr. Tammy Adams, (301)713-2289.

SUPPLEMENTARY INFORMATION: On April 7, 2004, notice was published in the Federal Register (69 FR 18357) that a request for a scientific research permit to take marine mammals in the North Atlantic had been submitted by Robert DiGiovanni, Riverhead Foundation for Marine Research and Preservation. On February 24, 2005 notice was published in the Federal Register (70 FR 9049) that requests for scientific research permits to take right whales in the North Atlantic had been submitted by the Georgia Department of Natural Resources and the Center for Coastal Studies. The requested permits have been issued under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR parts 222-226).

The permits authorize harassment of marine mammals during close approaches for aerial and vessel surveys with associated photo-identification and behavioral observations. Permit No. 1036-1744 authorizes harassment of various cetacean and pinniped species in waters off Rhode Island, Connecticut, New York, New Jersey, Delaware, Maryland, and Virginia. Permit No. 594-1759 authorizes harassment of northern right whales in waters off Virginia, North Carolina, South Carolina, Georgia, Florida, and Alabama. Permit No. 633-1763 authorizes harassment of northern right whales in the Gulf of Maine, Cape Cod Bay, Great South Channel, and Georgia Bight, and the collection and export of sloughed right whale skin.

In compliance with the National Environmental Policy Act of 1969 (42 U.S.C. 4321 et seq.), an environmental assessment was prepared analyzing the effects of the permitted activities. After a Finding of No Significant Impact, the determination was made that it was not necessary to prepare an environmental impact statement.

Issuance of these permits, as required by the ESA, was based on a finding that such permits: (1) Were applied for in good faith; (2) will not operate to the disadvantage of such endangered species; and (3) are consistent with the purposes and policies set forth in section 2 of the ESA.

Dated: April 21, 2005.
Stephen L. Leathery,
Chief, Permits, Conservation and Education Division, Office of Protected Resources, National Marine Fisheries Service.

[FR Doc. 05-8604 Filed 4-28-05; 8:45 am]

BILLING CODE 3510-22-S